NATIONAL SCIENCE FOUNDATION

Special Emphasis Panel in Electrical and Communications System; Notice of Meeting

In accordance with the Federal Advisory Committee Act (Pub. L. 92-463; as amended), the National Science Foundation annouces the following meeting:

Name: Special Emphasis panel in Electrical and Communications System (1196).

Date and Time: February 7-8, 2000—8:30 a.m. to 5 p.m.

Place: National Science Foundation, Room 365, 4201 Wilson Boulevard, Arlington, VA 22230.

Type of Meeting: Closed.

Contact Persons: Dr. Kishan Baheti, Program Director, Control, Networks, and Computational Intelligence (CNCI), Division of Electrical and Communications Systems, National Science Foundation, 4201 Wilson Boulevard, Room 675, Arlington, VA 22230 Telephone: (703) 306-1339.

Purpose: To provide advice and recommendation concerning proposals submitted to NSF for financial support.

Agenda: To review and evaluate research proposals in the CNCI program as part of the selection process for award.

Reason for Closing: The proposals being reviewed include information of a proprietary or confidential nature, including technical information; financial data, such as salaries; and personal information concerning individuals associated with the proposals. These matters are within exemptions 4 and 6 of 5 U.S.C. 552b. (c)(4) and (6) the Government in the Sunshine Act.

Dated: January 24, 2000.
Karen J. York,
Committee Management Officer.

[FR Doc. 00-1995 Filed 1-27-00; 8:45 am]

BILLING CODE 7555-01-M